DEPARTMENT OF HEALTH AND HUMAN SERVICES

Substance Abuse and Mental Health Services Administration (SAMHSA)

Notice of Meeting

Pursuant to Public Law 92-463, notice is hereby given of the following meeting of the SAMHSA Special Emphasis Panel II in June and July 2000.

A summary of the meeting may be obtained from: Ms. Coral M. Sweeney, SAMHSA, Division of Extramural Activities Policy and Review, 5600 Fishers Lane, Room 17-89, Rockville, Maryland 20857. Telephone: (301) 443-2998.

Substantive program information may be obtained from the individual named as Contact for the meeting listed below.

The meeting will include the review, discussion and evaluation of individual contract proposals. These discussions could reveal personal information concerning individuals associated with the proposals and confidential and financial information about an individual's proposal. The discussion may also reveal information about procurement activities exempt from disclosure by statute and trade secrets and commercial or financial information obtained from a person and privileged and confidential. Accordingly, the meeting is concerned with matters exempt from mandatory disclosure in Title 5 U.S.C. 552b(c)(3),(4), and (6) and 5 U.S.C. App. 2, § 10(d).

Committee Name: SAMHSA Special Emphasis Panel II.

Panel: Technical Assistance & Logistical Support 270-00-7077.

Meeting Date: June 1-2, 2000.

Place: Bethesda Marriott, 5151 Pooks Hill Road, Bethesda, Maryland 20814.

Closed: June 1, 2000, 8:30 a.m.-5:00 p.m.; June 2, 2000, 8:30 a.m.-Adjournment.

Contact: Ferdinand Hui, Room 17-89, Parklawn Building, Telephone: (301) 443-9919 and FAX (301) 443-1587.

Panel: State Alcohol & Other Drugs (AOD) Systems Technical Review Project 270-00-7069.

Meeting Date: July 10-11, 2000.

Place: Bethesda Marriott, 5151 Pooks Hill Road, Bethesda, Maryland 20814.

Closed: July 10, 2000 8:30 a.m.-5:00 p.m.; July 11, 2000, 8:30 a.m.-Adjournment.

Contact: Ferdinand Hui, Parklawn Building, Room 17-89, Telephone: (301) 443-9919 and FAX: (301)443-1587.

Panel: Indefinite Delivery & Indefinite Quantity, 277-00-6049.

Meeting Date: June 19-23, 2000.

Meeting Place: Bethesda Marriott, 51512 Pooks Hill Road, Bethesda, Maryland 20814.

Closed: July 19-23, 2000, 8:30 a.m.-5:00 p.m.

Contact: Ferdinand Hui, Parklawn Building, Room 17-89, Telephone: (301) 443-9919 and FAZ (301) 443-1587.

Dated: May 2, 2000.
Coral Sweeney,
Review Specialist, SAMHSA.

[FR Doc. 00-11534 Filed 5-8-00; 8:45 am]

BILLING CODE 4162-20-P